DEPARTMENT OF THE TREASURY

Office of the Secretary

List of Countries Requiring Cooperation With an International Boycott

In accordance with section 999(a)(3) of the Internal Revenue Code of 1986, the Department of the Treasury is publishing a current list of countries which require or may require participation in, or cooperation with, an international boycott (within the meaning of section 999(b)(3) of the Internal Revenue Code of 1986).

On the basis of the best information currently available to the Department of the Treasury, the following countries require or may require participation in, or cooperation with, an international boycott (within the meaning of section 999(b)(3) of the Internal Revenue Code of 1986).

Kuwait, Lebanon, Libya, Qatar, Saudi Arabia, Syria, United Arab Emirates, Yemen, Republic of.

Iraq is not included in this list, but its status with respect to future lists remains under review by the Department of the Treasury.

Dated: May 2, 2011.
Michael J. Caballero,
International Tax Counsel, Tax Policy.

[FR Doc. 2011-11307 Filed 5-10-11; 8:45 am]

BILLING CODE 4810-25-M